DEPARTMENT OF DEFENSE

Department of the Army

Preparation of an Environmental Impact Statement (EIS) for the Renewal of the Special Use Permit for Military Activities on the De Soto National Forest and the Implementation of the Master Plan at Camp Shelby, Mississippi

AGENCY: Mississippi National Guard (MSNG), National Guard Bureau (NGB), Department of the Army (DA), DoD; National Forests in Mississippi, U.S. Forest Service, U.S. Department of Agriculture.

ACTION: Notice of intent.

SUMMARY: NGB as lead agency, along with the U.S. Forest Service as a cooperating agency, will prepare an EIS for the renewal of the Special Use Permit (SUP) for Military Use of National Forest Lands at Camp Shelby, Mississippi. In addition, the EIS will address the implementation of the Master Plan for Camp Shelby.

ADDRESSES: Written comments may be forwarded to the Mississippi Army National Guard Environmental Office (MSARNG-ENV), ATTN: Brian Neely, Natural and Cultural Resources Manager, P.O. Box 5027, Jackson, MS 39296-5027.

FOR FURTHER INFORMATION CONTACT: Brian Neely, Natural and Cultural Resources Manager, at (601) 313-6128; or Colonel Robert A. Lee, Environmental Program Manager at (601) 313-6228.

SUPPLEMENTARY INFORMATION: The MSNG has historically utilized public lands for military activities under a special use permit administered by the U.S. Forest Service. The current permit is subject to renewal in December 2005. The SUP establishes the levels and types of military activities that may occur on National Forest lands. EISs completed in 1991, 1994, and 1998 evaluated current military activities at Camp Shelby. The proposed EIS will evaluate extending the SUP from 10 to 20 years and will now include an Operations and Maintenance plan with alternatives covering military activities proposed by the proponents (DA and NGB) and update previous analyses as necessary. The EIS will disclose and evaluate the environmental impacts associated with military use of National Forest lands. The U.S. Forest Service and the NGB will utilize the EIS in making decisions concerning military use of National Forest, DoD, and state lands at Camp Shelby. The U.S. Forest Service will make its decision concerning the renewal of the SUP based upon the findings of the EIS.

Significant Issues: Camp Shelby contains approximately 134,000 acres of land some of which serves as habitat for protected flora and fauna. This includes one Federally listed endangered plant species (Louisiana Quillwort), one Federally listed threatened species (Gopher Tortoise) and two Federal candidate species (Camp Shelby Burrowing Crawfish and the Black Pine Snake). Camp Shelby also includes two historic properties listed on the National Register of Historic Places, two prehistoric sites eligible for listing on the National Register of Historic Places and an additional 32 sites have been recommended for protection until phase II testing can assess the significance of these sites for inclusion on the National Register of Historic Places. Camp Shelby also contains over six historic cemeteries that are fenced and protected from any disturbance. These natural and cultural resource issues will be considered in all proposed projects that are identified in the EIS.

Alternatives: Two alternatives for military use of Camp Shelby have been identified for analysis in the EIS. The alternatives are: (1) No action, whereby military activities would be allowed to continue as presently permitted to include construction and maintenance of facilities evaluated and approved in previous environmental documents, and (2) mission requirements, whereby current activities and additional use to support mission requirements on State of Mississippi, DoD, and National Forest lands would be allowed. Future mission requirements include: combined arms area, military operations in military terrain facility, urban assault course, waste water treatment plant with associated pipeline, simulation and exercise center and Army transformation. Other alternatives may be assessed as more specific actions are developed, public concerns are raised, and issues identified.

Public scoping meetings will be held at two locations: one in Hattiesburg and one on the Mississippi Gulf Coast area. Dates, times and exact locations for these meetings will be announced through letters, public notices, display advertisements, and legal advertisements and will be released to newspapers of general circulation a minimum of 15 days prior to the meetings.

Dated: August 27, 2003.
Richard E. Newsome,
Acting Deputy Assistant Secretary of the Army (Environment, Safety and Occupational Health) OASA (I&E).

[FR Doc. 03-22475 Filed 9-3-03; 8:45 am]

BILLING CODE 3710-08-M